DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the name of one person whose property and interests in property has been unblocked and has been removed from OFAC's Specially Designated Nationals and Blocked Persons List (SDN List).

DATES: See Supplementary Information section for effective date.

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (https://www.treasury.gov/ofac).

Notice of OFAC Action

On May 12, 2021, OFAC determined that the property and interests in property subject to U.S. jurisdiction of the following person is unblocked and has been removed from the SDN List under the relevant sanctions authorities listed below.

Individual

1. ZAMBADA GARCIA, Jesus Reynaldo (a.k.a. “EL REY ZAMBADA”); DOB 13 Aug 1961; POB Culiacan, Sinaloa, Mexico; nationality Mexico; citizen Mexico; C.U.R.P. ZAGJ610813HSLMRS05 (Mexico) (individual) [SDNTK].

Dated: May 12, 2021.
Gregory T. Gatjanis,
Associate Director, Office of Global Targeting, Office of Foreign Assets Control, U.S. Department of the Treasury.

[FR Doc. 2021-10305 Filed 5-14-21; 8:45 am]

BILLING CODE 4810-AL-P